DEPARTMENT OF JUSTICE

Notice of Public Comment Period for Proposed Consent Decree Amendment Under the Clean Air Act

Under 28 CFR 50.7, notice is hereby given that a proposed amendment to the consent decree in United States, et al. v. BP Exploration & Oil Co., et al., Civil No. 2:96 CV 095 RL, was lodged with the United States District Court for the Northern District of Indiana on July 14, 2005.

The original settlement was for civil penalties and injunctive relief pursuant to section 113(b) of the Clean Air Act (“CAA”), 42 U.S.C. 7413(b) (1983), amended by, 42 U.S.C. 7413(b) (Supp. 1991), covering seven refineries, and was entered by the Court on August 29, 2001, as part of EPA's Petroleum Refinery Initiative. Since entry, BP has sold three of its refineries. The proposed Amendment modifies the consent decree to set final emissions limits for NOX and SO2 at the fluid catalytic cracking units at the BP refineries and adds several other changes to update the consent decree to conform to provisions that have been negotiated with refiners since the entry of the BP decree.

The Department of Justice will receive for a period of thirty (30) days from the date of this publication comments relating to the Fourth Amendment to Consent Decree. Comments should be addressed to the Assistant Attorney General, Environment and Natural Resources Division, PO Box 7611, U.S. Department of Justice, Washington, DC 20044-7611, and should refer to: United States v. BP Exploration & Oil Co., D.J. Ref. 90-5-2-1-07109/3.

The proposed Addendum may be examined at the Office of the United States Attorney, Northern District of Indiana, U.S. District Court, 5400 Federal Plaza, Hammond, Indiana 46320, and at U.S. EPA Headquarters, Air Enforcement Division, Office of Enforcement and Compliance Assurance, Washington, DC. During the public comment period the Fourth Amendment to the Consent Decrees may also be examined on the following Department of Justice Web site, http://www.usdoj.gov/enrd/open.html. A copy of the Amendment may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.25 (25 cents per page reproduction cost) payable to the U.S. Treasury.

Robert D. Brook,
Assistant Chief, Environmental Enforcement Section, Environment and Natural Resources Division.

[FR Doc. 05-14893 Filed 7-26-05; 8:45 am]

BILLING CODE 4410-15-M